INTERNATIONAL TRADE COMMISSION

[Investigations Nos. 731-TA-949 and 950 (Preliminary)]

Processed Gum Arabic From France and the United Kingdom

AGENCY: United States International Trade Commission.

ACTION: Notice of withdrawal of petition in antidumping investigations.

SUMMARY: On July 5, 2001, the Department of Commerce and the Commission received a letter from petitioner in the subject investigations (Importers Service Corporation, Jersey City, NJ) withdrawing its petition. Commerce has not initiated investigations as provided for in section 732(c) of the Tariff Act of 1930 (19 U.S.C. 1673a(c)). Accordingly, the Commission gives notice that its antidumping investigations concerning processed gum arabic from France and the United Kingdom (investigations Nos. 731-TA-949 and 950 (Preliminary)) are discontinued.

EFFECTIVE DATE: July 5, 2001.

FOR FURTHER INFORMATION CONTACT: Woodley Timberlake (202-205-3188), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS-ON-LINE) at http://dockets.usitc.gov/eol/public.

Issued: July 10, 2001.
By order of the Commission.
Donna R. Koehnke,
Secretary.

[FR Doc. 01-17621 Filed 7-12-01; 8:45 am]

BILLING CODE 7020-02-P